COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds product(s) and service(s) to the Procurement List that will be furnished by nonprofit agencies employing persons who are blind or have other severe disabilities, and deletes product(s) and service(s) from the Procurement List previously furnished by such agencies.

DATES: Date added to and deleted from the Procurement List: January 29, 2026.

ADDRESSES: Committee for Purchase From People Who Are Blind or Severely Disabled, 355 E Street SW, Suite 325, Washington, DC 20024.

FOR FURTHER INFORMATION CONTACT: For further information or to submit comments contact: Michael R. Jurkowski, Telephone: (703) 489-1322 or email CMTEFedReg@AbilityOne.gov.

SUPPLEMENTARY INFORMATION:

Additions

On September 18, 2026 (90 FR 45023) and November 20, 2025 (90 FR 52358), the Committee for Purchase From People Who Are Blind or Severely Disabled (operating as the U.S. AbilityOne Commission) published an initial notice of proposed additions to the Procurement List. This final notice is published pursuant to 41 U.S.C. 8503(a)(2) and 41 CFR 51-2.3. The Committee has determined that the product(s) and service(s) listed below are suitable for procurement by the Federal Government and has added these product(s) and service(s) to the Procurement List as a mandatory purchase for Federal entities. In accordance with 41 CFR 51-5.2, the Committee has authorized the qualified nonprofit agencies described with the product(s) and service(s) as the mandatory source(s) of supply.

After consideration of the material presented to it concerning capability of qualified nonprofit agencies to provide the product(s) and impact of the additions on the current or most recent contractors, the Committee has determined that the product(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following product(s) are added to the Procurement List:

Product(s)

NSN(s)—Product Name(s): 6510-01-598-8418—Bandage, Compression, I, Flat Fold

Authorized Source of Supply: Alphapointe, Kansas City, MO

Mandatory For: DEPARTMENT OF DEFENSE

Contracting Activity: DEFENSE LOGISTICS AGENCY, DLA TROOP SUPPORT, MEDICAL SUPPLY CHAIN FSF

Distribution: C-List 1005-01-706-2547—Buttstock, Subassembly, Black

Authorized Source of Supply: DePaul Industries, Portland, OR

Mandatory For: DEPARTMENT OF DEFENSE

Contracting Activity: DLA LAND AND MARITIME, LAND SUPPLIER OPERATIONS SMS

Distribution: C-List

Service(s)

Service Type: Laundry and Linen Service

Mandatory for: Department of Veteran Affairs, VISN 7, Multiple Locations, GA, SC

Authorized Source of Supply: Wiregrass Rehabilitation Center, Inc.

Contracting Activity: DEPARTMENT OF VETERANS AFFAIRS, 247-NETWORK CONTRACT OFC 7(00247)

The Committee finds good cause to dispense with the 30-day delay in the effective date normally required by the Administrative Procedure Act. See 5 U.S.C. 553(d). This addition to the Committee's Procurement List is effectuated because of the expiration of the Department of Veteran Affairs, VISN 7, Multiple Locations, GA, SC Laundry and Linen Service contract. The Federal customer contacted and has worked diligently with the AbilityOne Program to fulfill this service need under the AbilityOne Program. To avoid performance disruption, and the possibility that the Department of Veteran Affairs will refer its business elsewhere, this addition must be effective on January 12, 2026, ensuring timely execution for a January 12, 2026 start date. The Committee published an initial notice of proposed Procurement List addition in the Federal Register on September 18, 2026 (90 FR 45023) but did not receive any comments. This addition will not create a public hardship and has limited effect on the public at large. Rather, this addition will create new jobs for other affected parties—people with significant disabilities in the AbilityOne program who otherwise face challenges locating employment. Moreover, this addition enables the Federal customer to continue operations without interruption.

Deletions

On November 20, 2026 (90 FR 52358), the Committee for Purchase From People Who Are Blind or Severely Disabled published notice of proposed deletions from the Procurement List. This notice is published pursuant to 41 U.S.C. 8503 (a)(2) and 41 CFR 51-2.3. After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s): 8520-00-NIB-0134—Purell Instant Hand Sanitizer, Green-Certified, 8 oz. Bottle

Authorized Source of Supply: Travis Association for the Blind, Austin, TX

Contracting Activity: DEPARTMENT OF HOMELAND SECURITY, OFFICE OF PROCUREMENT OPERATIONS

NSN(s)—Product Name(s): 7045-01-568-9695—USB 2.0 Hard Drive, Portable, 500G

Authorized Source of Supply: North Central Sight Services, Inc., Williamsport, PA

Contracting Activity: GSA/FAS ADMIN SVCS ACQUISITION BR(2

NSN(s)—Product Name(s):

890008300S—Breakfast Burrito and Drink

890008301S—Cold Sandwich With Chips and Drink

890008302S—Dinner Burrito With Fruit Cup and Drink

890008303S—Vegetarian Burrito With Chips and Drink

890008304S—Cheeseburger Meal With Chips and Drink

890008305S—Chicken Salad With Chip and Drink

890008306S—Chicken Teriyaki Bowl and Drink

890008307S—Snack

890008308S—Water, 16.9 oz. bottle

890008309S—Milk, 8 oz. box

890008310S—Juice, 6 oz. box

890008311S—Cold Vegetarian Sandwich With Chips and Drink

890008312S—Vegetarian Cheeseburger Meal With Chips and Drink

Authorized Source of Supply: ARC-Imperial Valley, El Centro, CA

Contracting Activity: U.S. CUSTOMS AND BORDER PROTECTION, BORDER ENFORCEMENT CTR DIV

NSN(s)—Product Name(s):

8950-01-E60-7766—Pepper, Black, Ground, Gourmet, 12/16 oz. Metal Cans

8950-01-E60-7768—Pepper, Black, Ground, Gourmet, 6/18 oz. Metal Cans

8950-01-E60-8234—Pepper, Black, Cracked 16 Mesh, 6/18 oz. Metal Cans

8950-01-E60-8236—Pepper, Black, Cracked 16 Mesh, 6/16 oz. Metal Cans

8950-01-E60-8238—Pepper, Black, Whole, 6/16 oz. Metal Cans

8950-01-E60-8240—Pepper, Black, Whole, 6/18 oz. Metal Cans

Authorized Source of Supply: CDS Monarch, Webster, NY

Contracting Activity: DEFENSE LOGISTICS AGENCY, DLA TROOP SUPPORT

NSN(s)—Product Name(s): 4240-01-469-8738—Hearing Protection, Over-The-Head Earmuff, NRR 27dB

Authorized Source of Supply: Access: Supports for Living Inc., Middletown, NY

Contracting Activity: DEFENSE LOGISTICS AGENCY, DLA TROOP SUPPORT

NSN(s)—Product Name(s):

7290-00-633-9124—Pad, Ironing Board

7290-00-946-7905—Cover, Ironing Board

Authorized Source of Supply: NuVisions Center, a Not for Profit Corporation, Lewistown, PA

Contracting Activity: GSA/FSS GREATER SOUTHWEST ACQUISITI, FEDERAL ACQUISITION SERVICE

NSN(s)—Product Name(s):

7510-01-664-8787—DAYMAX System, 2024 Calendar Pad, Type I

7510-01-664-8808—DAYMAX System, 2024, Calendar Pad, Type II

Authorized Source of Supply: Anthony Wayne Rehabilitation Ctr for Handicapped and Blind, Inc., Fort Wayne, IN

Contracting Activity: GSA/FSS GREATER SOUTHWEST ACQUISITI, FEDERAL

NSN(s)—Product Name(s): 5340-00-454-5969—Strap, Webbing, 180″ x 1″

Authorized Source of Supply: The Charles Lea Center, Inc., Spartanburg, SC

Contracting Activity: DEFENSE LOGISTICS AGENCY, DLA LAND AND MARITIME

NSN(s)—Product Name(s):

8415-01-092-7529—Coveralls, Disposable, Small

8415-01-092-7531—Coverall, Disposable, with Attached Hood & Booties for Asbestos/Fiberglass Handlers, Navy, White, L

8415-01-092-7533—Coverall, Disposable, Asbestos and Fiberglass, U.S. Navy, White Main Body, XX-Large

Authorized Source of Supply: TradeWinds Services, Inc., Merrillville, IN

Authorized Source of Supply: ASPIRO, Inc., Green Bay, WI

Contracting Activity: DEFENSE LOGISTICS AGENCY, DLA TROOP SUPPORT

NSN(s)—Product Name(s):

8415-00-NSH-0608—Pocket, Radio, AN/PRC-126

8415-00-NSH-0612—Suspenders, Sub-Belt

8415-00-NSH-0613—Pocket, Shotgun Launched Riot Control Canister

8415-00-NSH-0614—Pocket, Administrative

8415-00-NSH-0617—Insert, Medical, Trauma, Ranger

8415-00-NSH-0620—Modular Assault Pack

8415-00-NSH-0621—Load Carriage System Bag

8415-00-NSH-0623—Load Carriage System Harnes (CV-420)

8415-00-NSH-0624—Mission Tether Belt

8415-00-NSH-0625—Mission Tether

8415-00-NSH-0684—FSBE Deployment Bag

8415-00-NSH-0685—Repair Kit

Authorized Source of Supply: Chautauqua County Chapter, NYSARC, Jamestown, NY

Contracting Activity: DEPT OF THE ARMY, W6QK ACC-APG NATICK

NSN(s)—Product Name(s):

6190-09-000-0279—Kit, Martial Arms Training (Battalion Kit)

7810-00-NSH-0002—Kit, Martial Arms Training (School of Infantry Kit

7810-00-NSH-0003—Kit, Martial Arms Training (Recruit Depot Kit)

Authorized Source of Supply: Chautauqua County Chapter, NYSARC, Jamestown, NY

Contracting Activity: DEPT OF THE ARMY, W6QK ACC-APG NATICK

NSN(s)—Product Name(s):

1375-00-NSH-0001—Kit, Marine Corps Demolition, Advanced

Authorized Source of Supply: Chautauqua County Chapter, NYSARC, Jamestown, NY

Contracting Activity: DEPT OF THE ARMY, W6QK ACC-APG NATICK

NSN(s)—Product Name(s): 5340-00-454-5963—Strap, Webbing, 100″x 1″

Authorized Source of Supply: The Charles Lea Center, Inc., Spartanburg, SC

Contracting Activity: DEFENSE LOGISTICS AGENCY, DLA LAND AND MARITIME

NSN(s)—Product Name(s): 5340-00-126-9011- Strap, Webbing, 144″ x 1″

Authorized Source of Supply: The Charles Lea Center, Inc., Spartanburg, SC

Contracting Activity: DEFENSE LOGISTICS AGENCY, DLA LAND AND MARITIME

NSN(s)—Product Name(s): 5340-00-854-6736- Strap, Webbing, 174″ x 1″

Authorized Source of Supply: The Charles Lea Center, Inc., Spartanburg, SC

Contracting Activity: DEFENSE LOGISTICS AGENCY, DLA LAND AND MARITIME

NSN(s)—Product Name(s): 8970-01-321-9153—Heater, Flameless

Authorized Source of Supply: Work, Incorporated, Dorchester, MA

Contracting Activity: DEFENSE LOGISTICS AGENCY, DLA TROOP SUPPORT

NSN(s)—Product Name(s): EIRS 74, PSIN3916—Tray, MM, Fiberboard

Authorized Source of Supply: ReadyOne Industries, Inc., El Paso, TX

Contracting Activity: U.S. Postal Service, Washington, DC

NSN(s)—Product Name(s):

8415-00-NSH-0398—Trousers, Wind Resistant, Army, Urban Camouflage, XS-XS

8415-00-NSH-0399—Trousers, Wind Resistant, Army, Urban Camouflage, XS-S

8415-00-NSH-0400—Trousers, Wind Resistant, Army, Urban Camouflage, XS-R

8415-00-NSH-0401—Trousers, Wind Resistant, Army, Urban Camouflage, XS-L

8415-00-NSH-0402—Trousers, Wind Resistant, Army, Urban Camouflage, S-XS

8415-00-NSH-0403—Trousers, Wind Resistant, Army, Urban Camouflage, S-S

8415-00-NSH-0404—Trousers, Wind Resistant, Army, Urban Camouflage, S-R

8415-00-NSH-0405—Trousers, Wind Resistant, Army, Urban Camouflage, S-L

8415-00-NSH-0406—Trousers, Wind Resistant, Army, Urban Camouflage, S-XL

8415-00-NSH-0407—Trousers, Wind Resistant, Army, Urban Camouflage, M-XS

8415-00-NSH-0408—Trousers, Wind Resistant, Army, Urban Camouflage, M-S

8415-00-NSH-0409—Trousers, Wind Resistant, Army, Urban Camouflage, M-R

8415-00-NSH-0410—Trousers, Wind Resistant, Army, Urban Camouflage, M-L

8415-00-NSH-0411—Trousers, Wind Resistant, Army, Urban Camouflage, M-XL

8415-00-NSH-0412—Trousers, Wind Resistant, Army, Urban Camouflage, L-S

8415-00-NSH-0413—Trousers, Wind Resistant, Army, Urban Camouflage, L-R

8415-00-NSH-0414—Trousers, Wind Resistant, Army, Urban Camouflage, L-L

8415-00-NSH-0415—Trousers, Wind Resistant, Army, Urban Camouflage, L-XL

8415-00-NSH-0416—Trousers, Wind Resistant, Army, Urban Camouflage, XL-S

8415-00-NSH-0417—Trousers, Wind Resistant, Army, Urban Camouflage, XL-R

8415-00-NSH-0418—Trousers, Wind Resistant, Army, Urban Camouflage, XL-LL

8415-00-NSH-0419—Trousers, Wind Resistant, Army, Urban Camouflage, M-XXL

8415-00-NSH-0420—Trousers, Wind Resistant, Army, Urban Camouflage, L-XXL

8415-00-NSH-0421—Trousers, Wind Resistant, Army, Urban Camouflage, XXL-XXL

Authorized Source of Supply: Goodwill Industries of South Florida, Inc., Miami, FL

Contracting Activity: DEPT OF THE ARMY, W6QK ACC-APG NATICK

NSN(s)—Product Name(s):

8415-00-NSH-0425—Jacket, Fleece, with Hood, Wind and Water Resistant, Type 1, Army, Green, S

8415-00-NSH-0426—Jacket, Fleece, with Hood, Wind and Water Resistant, Type 1, Army, Green, M

8415-00-NSH-0427—Jacket, Fleece, with Hood, Wind and Water Resistant, Army, Green, L

8415-00-NSH-0428—Jacket, Fleece, with Hood, Wind and Water Resistant, Army, Green, XL

8415-00-NSH-0429—Jacket, Fleece, with Hood, Wind and Water Resistant, Army, Black, S

8415-00-NSH-0430—Jacket, Fleece, with Hood, Wind and Water Resistant, Army, Black, M

8415-00-NSH-0431—Jacket, Fleece, with Hood, Wind and Water Resistant, Army, Black, L

8415-00-NSH-0432—Jacket, Fleece, with Hood, Wind and Water Resistant, Army, Black, XL

8415-01-476-6425—Jacket, Wind Resistant Fleece with Hood, SPEAR, Army, Green, LR

8415-01-476-6428—Jacket, Wind Resistant Fleece with Hood, SPEAR, Army, Green, MR

8415-01-476-6429—Jacket, Wind Resistant Fleece with Hood, SPEAR. Army, Green, SR

8415-01-476-6431—Jacket, Wind Resistant Fleece, SPEAR, Army, Green, XLR

8415-01-476-6560—Jacket, Wind Resistant Fleece, SPEAR, Army, Black, XLR

8415-01-476-6573—Jacket, Wind Resistant Fleece, SPEAR, Army, Black, LL

8415-01-476-6574—Jacket, Wind Resistant Fleece with Hood, SPEAR, Army, Green, SR

8415-01-476-6576—Jacket, Wind Resistant Fleece, SPEAR, Army, Black, MR

8415-01-476-6577—Jacket, Wind Resistant Fleece with Hood, SPEAR, Army, Black, SR

8415-01-476-6578—Jacket, Wind Resistant Fleece, SPEAR, Army, Black, XLL

Authorized Source of Supply: Peckham Vocational Industries, Inc., Lansing, MI

Contracting Activity: DEPT OF THE ARMY, W6QK ACC-APG NATICK

NSN(s)—Product Name(s):

8415-00-NSH-0341—Shirt, Underlayer for Fleece Jacket, 200 Weight, Army, Long Sleeved, Black, XS

8415-01-470-1130—Jacket, 100 Weight Fleece, Extreme Cold Weather Clothing System (ECWCS), S

8415-01-470-1135—Jacket, 100 Weight Fleece, Extreme Cold Weather Clothing System (ECWCS), M

8415-01-470-1136—Jacket, 100 Weight Fleece, Extreme Cold Weather Clothing System (ECWCS), L

8415-01-470-1137—Jacket, 100 Weight Fleece, Extreme Cold Weather Clothing System (ECWCS), XL

Authorized Source of Supply: Peckham Vocational Industries, Inc., Lansing, MI

Contracting Activity: DEPT OF THE ARMY, W6QK ACC-APG NATICK

NSN(s)—Product Name(s):

8415-00-NSH-0422—Cover, Parachutists' Helmet, Army, Urban Camouflage, X Small-Small

8415-00-NSH-0423—Cover, Parachutists' Helmet, Army, Urban Camouflage, Medium—Large

8415-00-NSH-0424—Cover, Parachutists' Helmet, Army, Urban Camouflage, X Large

Authorized Source of Supply: Mount Rogers Community Services Board, Wytheville, VA

Contracting Activity: DEPT OF THE ARMY, W6QK ACC-APG NATICK

NSN(s)—Product Name(s):

8415-00-NSH-0333—Overalls, Bib, 100 Weight, Army, Black, Medium

8415-00-NSH-0351—Overalls, Bib, 100 Weight, Army, Black, Small

8415-00-NSH-0352—Overalls, Bib, 100 Weight, Army, Black, Small Long

8415-00-NSH-0353—Overalls, Bib, 100 Weight, Army, Black, Medium Long

8415-00-NSH-0354—Overalls, Bib, 100 Weight, Army, Black, Large

8415-00-NSH-0355—Overalls, Bib, 100 Weight, Army, Black, Large/Long

8415-00-NSH-0356—Overalls, Bib, 100 Weight, Army, Black, X Large

Authorized Source of Supply: Peckham Vocational Industries, Inc., Lansing, MI

Contracting Activity: DEPT OF THE ARMY, W6QK ACC-APG NATICK

NSN(s)—Product Name(s):

8415-00-NSH-0335—Trousers, 100 Weight Polyester Pile Fleece, Extreme Cold Weather Clothing System (ECWCS), M

8415-00-NSH-0362—Trousers, 100 Weight Polyester Pile Fleece, Extreme Cold Weather Clothing System (ECWCS), S

8415-00-NSH-0363—Trousers, 100 Weight Polyester Pile Fleece, Extreme Cold Weather Clothing System (ECWCS), L

8415-00-NSH-0364—Trousers, 100 Weight Polyester Pile Fleece, Extreme Cold Weather Clothing System (ECWCS), SL

Authorized Source of Supply: Peckham Vocational Industries, Inc., Lansing, MI

Contracting Activity: DEPT OF THE ARMY, W6QK ACC-APG NATICK

NSN(s)—Product Name(s):

8415-00-NSH-0334—Jacket, 200 Weight Polyester Pile Fleece, Extreme Cold Weather Clothing System (ECWCS), M

8415-00-NSH-0357—Jacket, 200 Weight Polyester Pile Fleece, Extreme Cold Weather Clothing System (ECWCS), S

8415-00-NSH-0358—Jacket, 200 Weight Polyester Pile Fleece, Extreme Cold Weather Clothing System (ECWCS), L

8415-00-NSH-0359—Jacket, 200 Weight Polyester Pile Fleece, Extreme Cold Weather Clothing System (ECWCS), L-L

8415-00-NSH-0360—Jacket, 200 Weight Polyester Pile Fleece, Extreme Cold Weather Clothing System (ECWCS), XL

8415-00-NSH-0361—Jacket, 200 Weight Polyester Pile Fleece, Extreme Cold Weather Clothing System (ECWCS), XL-L

Authorized Source of Supply: Peckham Vocational Industries, Inc., Lansing, MI

Contracting Activity: DEPT OF THE ARMY, W6QK ACC-APG NATICK

NSN(s)—Product Name(s):

1560-01-509-2216FX—#1 Fuel Tank Foam Kit, F-15A/B Eagle

1560-01-509-2219FX—#3A Fuel Tank Foam Kit, F-15A/B Eagle

Authorized Source of Supply: Middle Georgia Diversified Industries, Inc., Dublin, GA

Contracting Activity: DEFENSE LOGISTICS AGENCY, DLA AVIATION

NSN(s)—Product Name(s):

8415-00-NSH-0639—Overalls, Fire Retardant 200 Fleece, SPEAR, Army, Black, SR

8415-00-NSH-0640—Overalls, Fire Retardant 200 Fleece, SPEAR, Army, Black, MR

8415-00-NSH-0641—Overalls, Fire Retardant 200 Fleece, SPEAR, Army, Black, LR

8415-00-NSH-0642—Overalls, Fire Retardant 200 Fleece, SPEAR, Army, Black, LL

8415-00-NSH-0643—Overalls, Fire Retardant 200 Fleece, SPEAR, Army, Black, XLR

8415-00-NSH-0644—Overalls, Fire Retardant 200 Fleece, SPEAR, Army, Black, XLL

8415-00-NSH-0645—Overalls, Fire Retardant 200 Fleece, SPEAR, Army, Green, SR

8415-00-NSH-0646—Overalls, Fire Retardant 200 Fleece, SPEAR, Army, Green, MR

8415-00-NSH-0647—Overalls, Fire Retardant 200 Fleece, SPEAR, Army, Green, LR

8415-00-NSH-0648—Overalls, Fire Retardant 200 Fleece, SPEAR, Army, Green, LL

8415-00-NSH-0649—Overalls, Fire Retardant 200 Fleece, SPEAR, Army, Green, XLR

8415-00-NSH-0650—Overalls, Fire Retardant 200 Fleece, SPEAR, Army, Green, XLL

8415-00-NSH-0651—Jacket, Fire Retardant 200 Fleece, SPEAR, Army, Black, SR

8415-00-NSH-0652—Jacket, Fire Retardant 200 Fleece, SPEAR, Army, Black, MR

8415-00-NSH-0653—Jacket, Fire Retardant 200 Fleece, SPEAR, Army, Black, LR

8415-00-NSH-0654—Jacket, Fire Retardant 200 Fleece, SPEAR, Army, Black, LL

8415-00-NSH-0655—Jacket, Fire Retardant 200 Fleece, SPEAR, Army, Black, XLR

8415-00-NSH-0656—Jacket, Fire Retardant 200 Fleece, SPEAR, Army, Black, XLL

8415-01-476-6199—Jacket, Heavy Weight Fleece, Army, Black, LR

8415-01-476-6201—Jacket, Heavy Weight Fleece, Army, Black, MR

8415-01-476-6206—Jacket, Heavy Weight Fleece, Army, Black, SR

8415-01-476-6215—Jacket, Heavy Weight Fleece, Army, Black, XLL

8415-01-476-6217—Jacket, Heavy Weight Fleece, Army, Black, XLR

8415-01-476-6218—Shirt, Underwear, Midweight, Army, Black, L

8415-01-476-6223—Shirt, Underwear, Midweight, Army, Black, LR

8415-01-476-6224—Shirt, Underwear, Midweight, Army, Black, MR

8415-01-476-6227—Shirt, Underwear, Midweight, Army, Black, XLL

8415-01-476-6228—Shirt, Underwear, Midweight, Army, Black, SR

8415-01-476-6237—Shirt, Underwear, Midweight, Army, Black, LR

8415-01-476-6241—Overalls, Bib, Stretch, SPEAR, Army, Unisex, Black, LL

8415-01-476-6260—Overalls, Bib, Stretch, SPEAR, Army, Unisex, Black, LR

8415-01-476-6261—Overalls, Bib, Stretch, SPEAR, Army, Unisex, Black, MR

8415-01-476-6263—Overalls, Bib, Stretch, SPEAR, Army, Unisex, Black, SR

8415-01-476-6264—Overalls, Bib, Stretch, SPEAR, Army, Unisex, Black, XLL

8415-01-476-6265—Overalls, Bib, Stretch, SPEAR, Army, Unisex, Black, LLR

8415-01-F01-0215—Shirt, Underwear, Midweight, SPEAR, Army, Green

Authorized Source of Supply: Peckham Vocational Industries, Inc., Lansing, MI

Contracting Activity: DEPT OF THE ARMY, W6QK ACC-APG NATICK

NSN(s)—Product Name(s):

8415-01-490-1900—Shirt, Chemical Protective Undergarment, Collarless, CPU, Navy, Long Sleeved, Black, 30

8415-01-490-1901—Shirt, Chemical Protective Undergarment, Collarless, CPU, Navy, Long Sleeved, Black, 32

8415-01-490-1902—Shirt, Chemical Protective Undergarment, Collarless, CPU, Navy, Long Sleeved, Black, 34

8415-01-490-1903—Shirt, Chemical Protective Undergarment, Collarless, CPU, Navy, Long Sleeved, Black, 36

8415-01-490-1904—Shirt, Chemical Protective Undergarment, Collarless, CPU, Navy, Long Sleeved, Black, 38

8415-01-490-1908—Shirt, Chemical Protective Undergarment, Collarless, CPU, Navy, Long Sleeved, Black, 40

8415-01-490-1910—Shirt, Chemical Protective Undergarment, Collarless, CPU, Navy, Long Sleeved, Black, 42

8415-01-490-1911—Shirt, Chemical Protective Undergarment, Collarless, CPU, Navy, Long Sleeved, Black, 44

8415-01-490-1913—Shirt, Chemical Protective Undergarment, Collarless, CPU, Navy, Long Sleeved, Black, 46

8415-01-490-1914—Shirt, Chemical Protective Undergarment, Collarless, CPU, Navy, Long Sleeved, Black, 28

8415-01-490-1915—Shirt, Chemical Protective Undergarment, Collarless, CPU, Navy, Long Sleeved, Black, 50

8415-01-490-1917—Shirt, Chemical Protective Undergarment, Collarless, CPU, Navy, Long Sleeved, Black, 52

Authorized Source of Supply: Peckham Vocational Industries, Inc., Lansing, MI

Contracting Activity: DEFENSE LOGISTICS AGENCY, DLA TROOP SUPPORT

NSN(s)—Product Name(s):

2530-00-277-2689—Steering Wheel

Authorized Source of Supply: Opportunities, Inc. of Jefferson County, Fort Atkinson, WI

Contracting Activity: DEFENSE LOGISTICS AGENCY, DLA LAND AND MARITIME

NSN(s)—Product Name(s): 2510-01-210-2748—Door Assembly, Heater/Defroster, HMMWV series M998

Authorized Source of Supply: Opportunities, Inc. of Jefferson County, Fort Atkinson, WI

Contracting Activity: DEFENSE LOGISTICS AGENCY, DLA LAND AND MARITIME

NSN(s)—Product Name(s): 2590-01-265-3185—Parking (Rear Left)

Authorized Source of Supply: Opportunities, Inc. of Jefferson County, Fort Atkinson, WI

Contracting Activity: DEFENSE LOGISTICS AGENCY, DLA LAND AND MARITIME

SN(s)—Product Name(s):

8415-00-NSH-0925—Shirt, Underwear, No Lycra, MPS, Navy, Men's, Black, X Small Short

8415-00-NSH-0926—Shirt, Underwear, No Lycra, MPS, Navy, Men's, Black, X Small Regular

8415-00-NSH-0927—Shirt, Underwear, No Lycra, MPS, Navy, Men's, Black, X Small Long

8415-00-NSH-0928—Shirt, Underwear, No Lycra, MPS, Navy, Men's, Black, Small Short

8415-00-NSH-0929—Shirt, Underwear, No Lycra, MPS, Navy, Men's, Black, Small Regular

8415-00-NSH-0930—Shirt, Underwear, No Lycra, MPS, Navy, Men's, Black, Small Long

8415-00-NSH-0931—Shirt, Underwear, No Lycra, MPS, Navy, Men's, Black, Medium Short

8415-00-NSH-0932—Shirt, Underwear, No Lycra, MPS, Navy, Men's, Black, Medium Regular

8415-00-NSH-0933—Shirt, Underwear, No Lycra, MPS, Navy, Men's, Black, Medium Long

8415-00-NSH-0934—Shirt, Underwear, No Lycra, MPS, Navy, Men's, Black, Large Short

8415-00-NSH-0935—Shirt, Underwear, No Lycra, MPS, Navy, Men's, Black, Large Regular

8415-00-NSH-0936—Shirt, Underwear, No Lycra, MPS, Navy, Men's, Black, Large Long

8415-00-NSH-0937—Shirt, Underwear, No Lycra, MPS, Navy, Men's, Black, X Large Short

8415-00-NSH-0938—Shirt, Underwear, No Lycra, MPS, Navy, Men's, Black, X Large Regular

8415-00-NSH-0939—Shirt, Underwear, No Lycra, MPS, Navy, Men's, Black, X Large Long

8415-00-NSH-0940—Shirt, Underwear, No Lycra, MPS, Navy, Women's, Black, X Small Short

8415-00-NSH-0941—Shirt, Underwear, No Lycra, MPS, Navy, Women's, Black, X Small Regular

8415-00-NSH-0942—Shirt, Underwear, No Lycra, MPS, Navy, Women's, Black, X Small Long

8415-00-NSH-0943—Shirt, Underwear, No Lycra, MPS, Navy, Women's, Black, Small Short

8415-00-NSH-0944—Shirt, Underwear, No Lycra, MPS, Navy, Women's, Black, Small Regular

8415-00-NSH-0945—Shirt, Underwear, No Lycra, MPS, Navy, Women's, Black, Small Long

8415-00-NSH-0946—Shirt, Underwear, No Lycra, MPS, Navy, Women's, Black, Medium Short

8415-00-NSH-0947—Shirt, Underwear, No Lycra, MPS, Navy, Women's, Black, Medium Regular

8415-00-NSH-0948—Shirt, Underwear, No Lycra, MPS, Navy, Women's, Black, Medium Long

8415-00-NSH-0949—Shirt, Underwear, No Lycra, MPS, Navy, Women's, Black, Large Short

8415-00-NSH-0950—Shirt, Underwear, No Lycra, MPS, Navy, Women's, Black, Large Regular

8415-00-NSH-0951—Shirt, Underwear, No Lycra, MPS, Navy, Women's, Black, Large Long

8415-00-NSH-0952—Shirt, Underwear, No Lycra, MPS, Navy, Women's, Black, X Large Short

8415-00-NSH-0953—Shirt, Underwear, No Lycra, MPS, Navy, Women's, Black, X Large Regular

8415-00-NSH-0954—Shirt, Underwear, No Lycra, MPS, Navy, Women's, Black, X Large Long

8415-00-NSH-0955—Drawers, Underwear Power Stretch, Fire Resistant, No Lycra, Navy, Men's, Black, X Small Short

8415-00-NSH-0956—Drawers, Underwear Power Stretch, Fire Resistant, No Lycra, Navy, Men's, Black, X Small Regular

8415-00-NSH-0957—Drawers, Underwear Power Stretch, Fire Resistant, No Lycra, Navy, Men's, Black, X Small Long

8415-00-NSH-0958—Drawers, Underwear Power Stretch, Fire Resistant, No Lycra, Navy, Men's, Black, Small Short

8415-00-NSH-0959—Drawers, Underwear Power Stretch, Fire Resistant, No Lycra, Navy, Men's, Black, Small Regular

8415-00-NSH-0960—Drawers, Underwear Power Stretch, Fire Resistant, No Lycra, Navy, Men's, Black, Small Long

8415-00-NSH-0961—Drawers, Underwear Power Stretch, Fire Resistant, No Lycra, Navy, Men's, Black, Medium Short

8415-00-NSH-0962—Drawers, Underwear Power Stretch, Fire Resistant, No Lycra, Navy, Men's, Black, Medium Regular

8415-00-NSH-0963—Drawers, Underwear Power Stretch, Fire Resistant, No Lycra, Navy, Men's, Black, Medium Long

8415-00-NSH-0964—Drawers, Underwear Power Stretch, Fire Resistant, No Lycra, Navy, Men's, Black, Large Short

8415-00-NSH-0965—Drawers, Underwear Power Stretch, Fire Resistant, No Lycra, Navy, Men's, Black, Large Regular

8415-00-NSH-0966—Drawers, Underwear Power Stretch, Fire Resistant, No Lycra, Navy, Men's, Black, Large Long

8415-00-NSH-0967—Drawers, Underwear Power Stretch, Fire Resistant, No Lycra, Navy, Men's, Black, X Large Short

8415-00-NSH-0968—Drawers, Underwear Power Stretch, Fire Resistant, No Lycra, Navy, Men's, Black, X Large Regular

8415-00-NSH-0969—Drawers, Underwear Power Stretch, Fire Resistant, No Lycra, Navy, Men's, Black, X Large Long

8415-00-NSH-0970—Drawers, Underwear Power Stretch, Fire Resistant, No Lycra, Navy, Women's, Black, X Small Short

8415-00-NSH-0971—Drawers, Underwear Power Stretch, Fire Resistant, No Lycra, Navy, Women's, Black, X Small Regular

8415-00-NSH-0972—Drawers, Underwear Power Stretch, Fire Resistant, No Lycra, Navy, Women's, Black, X Small Long

8415-00-NSH-0973—Drawers, Underwear Power Stretch, Fire Resistant, No Lycra, Navy, Women's, Black, Small Short

8415-00-NSH-0974—Drawers, Underwear Power Stretch, Fire Resistant, No Lycra, Navy, Women's, Black, Small Regular

8415-00-NSH-0975—Drawers, Underwear Power Stretch, Fire Resistant, No Lycra, Navy, Women's, Black, Small Long

8415-00-NSH-0976—Drawers, Underwear Power Stretch, Fire Resistant, No Lycra, Navy, Women's, Black, Medium Short

8415-00-NSH-0977—Drawers, Underwear Power Stretch, Fire Resistant, No Lycra, Navy, Women's, Black, Medium Regular

8415-00-NSH-0978—Drawers, Underwear Power Stretch, Fire Resistant, No Lycra, Navy, Women's, Black, Medium Long

8415-00-NSH-0979—Drawers, Underwear Power Stretch, Fire Resistant, No Lycra, Navy, Women's, Black, Large Short

8415-00-NSH-0980—Drawers, Underwear Power Stretch, Fire Resistant, No Lycra, Navy, Women's, Black, Large Regular

8415-00-NSH-0981—Drawers, Underwear Power Stretch, Fire Resistant, No Lycra, Navy, Women's, Black, Large Long

8415-00-NSH-0982—Drawers, Underwear Power Stretch, Fire Resistant, No Lycra, Navy, Women's, Black, X Large Short

8415-00-NSH-0983—Drawers, Underwear Power Stretch, Fire Resistant, No Lycra, Navy, Women's, Black, X Large Regular

8415-00-NSH-0984—Drawers, Underwear Power Stretch, Fire Resistant, No Lycra, Navy, Women's, Black, X Large Long

8415-00-NSH-1272—Xsmall/Long

8415-00-NSH-1273—Small/Short

8415-00-NSH-1274—Small/Long

8415-00-NSH-1275—Medium/Short

Authorized Source of Supply: Peckham Vocational Industries, Inc., Lansing, MI

Contracting Activity: DEPT OF THE ARMY, W6QK ACC-APG NATICK

Contracting Activity: DEPT OF THE NAVY, NAVAL AIR SYSTEMS COMMAND

NSN(s)—Product Name(s):

8415-01-503-0222—Shirt, Cold Weather 300 Weight, Synthetic Fleece, Marine Corps, Unisex, Coyote Brown, S

8415-01-503-0223—Shirt, Cold Weather 300 Weight, Synthetic Fleece, Marine Corps, Unisex, Coyote Brown, M

8415-01-503-0224—Shirt, Cold Weather 300 Weight, Synthetic Fleece, Marine Corps, Unisex, Coyote Brown, L

8415-01-503-0225—Shirt, Cold Weather 300 Weight, Synthetic Fleece, Marine Corps, Unisex, Coyote Brown, XL

Authorized Source of Supply: Peckham Vocational Industries, Inc., Lansing, MI

Contracting Activity: DEFENSE LOGISTICS AGENCY, DLA TROOP SUPPORT

Service(s)

Service Type: Janitorial/Custodial

Mandatory for: U.S. Army Reserve Center: Mifflin County, Lewistown, PA

Contracting Activity: DEPT OF THE ARMY, W6QM MICC CTR-FT DIX (RC)

Service Type: Custodial Service

Mandatory for: US Navy, NAVFAC Southwest, Navy Operational Support Center, Salt Lake City, UT

Contracting Activity: DEPT OF THE NAVY, NAVFAC SOUTHWEST

Service Type: Sourcing, Cutting, Kitting and Fulfillment Service

Mandatory for: Federal Prison Industries, Washington, DC—Pre-Cut Kit, Groin Protector, Flame Retardant

Contracting Activity: FEDERAL PRISON SYSTEM/BUREAU OF PRISONS, CO BUSINESS OFFICE

Service Type: Dining Facility Attendant

Mandatory for: US Army, Mission and Installation Contracting Command, Fort Riley, KS

Contracting Activity: DEPT OF THE ARMY, W6QM MICC-FT RILEY

Service Type: Switchboard Operation

Mandatory for: Department of Veterans Affairs, VA Medical Center, San Francisco, CA

Contracting Activity: DEPT OF VETERANS AFFAIRS, 261-NETWORK CONTRACT OFC21 (00261)

Service Type: Grounds Maintenance

Mandatory for: US Army, Pueblo Chemical Depot, Installation Acreage, Pueblo, CO

Contracting Activity: DEPT OF THE ARMY, W6QK ACC-RI

Service Type: Food Service Attendant

Mandatory for: US Air Force, 103 AW/MSC, 103rd Captain Joseph Wadsworth Airlift Dining Hall, East Granby, CT

Contracting Activity: DEPT OF THE ARMY, W7MZ USPFO ACTIVITY CT ARNG

Service Type: Custodial and Related Services

Mandatory for: GSA PBS Region 5, Senator Paul Simon Federal Building, Carbondale, IL

Contracting Activity: GENERAL SERVICES ADMINISTRATION, PUBLIC BUILDINGS SERVICE, PBS R5

Service Type: Custodial and Grounds Maintenance

Mandatory for: Multiple Locations St. Thomas and St. Johns, Virgin Islands

Contracting Activity: DEPT OF THE INTERIOR, NATIONAL PARK SERVICE, SER REGIONAL CONTRACTING OPO TID 60397

Service Type: Janitorial Service

Mandatory for: US Coast Guard, Air Station Atlantic City, William J. Hughes Federal Aviation Administration Technical Center, Atlantic City International Airport, Egg Harbor Township, NJ

Contracting Activity: DEPT OF HOMELAND SECURITY, U.S. COAST GUARD, BASE PORTSMOUTH

Service Type: Food Service Attendant

Mandatory for: US Air Force, 103AW/MSC, 103rd Air Control Squadron Dining Hall, Orange, CT

Contracting Activity: DEPT OF THE ARMY, W7MZ USPFO ACTIVITY CT ARNG

Service Type: Document Management

Mandatory for: USDA Forest Service, Region 6, Edith Green-Wendell Wyatt Federal Building, Portland, OR

Contracting Activity: DEPT OF AGRICULTURE, FOREST SERVICE, NORTHWEST OREGON CONTRACTING AREA

Michael R. Jurkowski,
Director, Business Operations.

[FR Doc. 2025-23895 Filed 12-23-25; 8:45 am]

BILLING CODE 6353-01-P